NATIONAL SCIENCE FOUNDATION

Sunshine Act Meetings

The National Science Board (NSB) hereby gives notice of the scheduling of teleconference meetings for the transaction of National Science Board business pursuant to the National Science Foundation Act and the Government in the Sunshine Act.

TIME AND DATE: Wednesday, February 23, 2022, from 11:00 a.m.-3:45 p.m., and Thursday, February 24, 2022, from 1:00-6:05 p.m. EST.

PLACE: These meetings will be held by videoconference. There will be no in-person meetings. The public may observe the public meetings, which will be streamed to the NSF You Tube channel.

• February 23: https://youtu.be/A643zjcFb1o

• February 24: https://youtu.be/cXGvg8ESQCE

STATUS: Parts of these meetings will be open to the public. The rest of the meetings will be closed to the public. See full description below.

MATTERS TO BE CONSIDERED:

Wednesday, February 23, 2022

Plenary Board meeting

Open Session: 11:00 a.m.-1:45 p.m.

• NSB Chair's Remarks

• NSF Director's Remarks

• Cool Science presentations

• Presentation: The Equity Ecosystem at NSF

• NSB Chair's Activities

• NSB Chair/NSF Director introduction of Stefanie Tompkins, Defense Advanced Research Projects Agency

• Presentation and Discussion

Open Session: 2:45 p.m.-3:45 p.m.

• Committee on Awards and Facilities Report

• Committee on Oversight Report

• Committee on External Engagement Report

• Committee on Science and Engineering Policy Report

• Vision Implementation Working Group Update

• K-12 STEM Education Exploratory Group Update

Thursday, February 24, 2022

Plenary Board

Open Session: 1:00 p.m.-2:15 p.m.

• NSB Chair welcome

• Panel Presentation and Discussion: Innovation Partnerships Across the U.S.

Closed Session: 2:30-3:40 p.m.

• NSB Chair's Opening Remarks

• Approval of Prior Minutes

• NSF Director's Remarks

• Agency Operating Status

• Subcommittee on Technology, Innovation, and Partnerships Report

• Committee on Oversight Report

• Committee on Strategy Report

• NSF's Geosciences Directorate Presentation and Discussion: Antarctic Infrastructure Strategy

Closed Session: 4:10-5:10 p.m.

• NSF Goals and Metrics, TIP, and Missing Millions

• Vote to Enter Executive Session

Executive Closed agenda items: 5:10-5:40 p.m.

• NSB Chair's Opening Remarks

• Approval of Prior Minutes

• NSF Director's Remarks

• Organizational Updates

• Nominations Committee for Board Elections

Open Session: 5:40-6:05 p.m.

• NSB Chair's Remarks

• Approval of Prior Minutes

• NSF Director's Remarks

• Senior Staff Updates

• Office of Legislative and Public Affairs Update Information Item

• NSB Chair's Closing Remarks

Meeting Adjourns: 6:05 p.m.

PORTIONS OPEN TO THE PUBLIC:

Wednesday, February 23, 2022

11:00 p.m.-1:45 p.m. Plenary NSB

2:45 p.m.-3:45 p.m. Plenary NSB

Thursday, February 24, 2022

1:00 p.m.-2:15 p.m. Plenary NSB

5:40 p.m.-6:05 p.m. Plenary NSB

PORTIONS CLOSED TO THE PUBLIC:

Thursday, February 24, 2022

2:30 p.m.-3:40 p.m. Plenary NSB

4:10 p.m.-5:40 p.m. Plenary NSB, including executive closed items

All open sessions of the meeting will be webcast live on the NSB YouTube channel.

• February 23: https://youtu.be/A643zjcFb1o

• February 24: https://youtu.be/cXGvg8ESQCE

Please refer to the NSB website for additional information. You will find any updated meeting information at https://www.nsf.gov/nsb.

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from noticed times by more than 15 minutes.

CONTACT PERSON FOR MORE INFORMATION: The NSB Office contact is Chris Blair, cblair@nsf.gov, 703-292-7000. The NSB Public Affairs contact is Nadine Lymn, nlymn@nsf.gov, 703-292-2490.

Chris Blair,
Executive Assistant to the National Science Board Office.

[FR Doc. 2022-03731 Filed 2-16-22; 4:15 pm]

BILLING CODE 7555-01-P